DEPARTMENT OF THE TREASURY

Submission for OMB Review; Comment Request

April 3, 2003.

The Department of Treasury has submitted the following public information collection requirement(s) to OMB for review and clearance under the Paperwork Reduction Act of 1995, Pub. L. 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before May 12, 2003, to be assured of consideration.

Internal Revenue Service (IRS)

OMB Number: 1545-0817.

Regulation Project Number: EE-28-78 Final.

Type of Review: Extension.

Title: Inspection of Applications for Tax Exemption and Applications for Determination Letters for Pension and Other Plans.

Description: Internal Revenue Code (IRC) section 6104 requires applications for tax exempt status, annual reports of private foundations, and certain portions of returns to be open for public inspection. Some information may be withheld from disclosure. IRS needs the information to comply with requests for public inspection of the above-named documents.

Respondents: Business or other for-profit, individuals or households, not-for-profit institutions.

Estimated Number of Respondents: 42,370.

Estimated Burden Hours per Respondent: 12 minutes.

Frequency of Response: On occasion.

Estimated Total Reporting Burden: 8,538 hours.

OMB Number: 1545-1809.

Form Number: IRS Form 8882.

Type of Review: Extension.

Title: Credit for Employer-Provided Child Care Facilities and Services.

Description: Qualified employers use Form 8882 to request a credit for employer-provided child care facilities and services. Section 45F provides credit based on costs incurred by an employer in providing child care facilities and resource and referral services. The credit is 25 percent of the qualified child care expenditures plus 10 percent of the qualified child care resource and referral expenditures for the tax year, up to a maximum credit of $150,000 per tax year.

Respondents: Business or other for-profit, individuals or households.

Estimated Number of Respondents/Recordkeepers: 1,000,000.

Estimated Burden Hours per Respondent/Recordkeeper:

Recordkeeping—8 hr., 7 min.

Learning about the law or the form—42 min.

Preparing and sending the form to the IRS—51 min.

Frequency of Response: Annually.

Estimated Total Reporting/Recordkeeping Burden: 9,680,000 hours.

OMB Number: 1545-1810.

Form Number: IRS Form 8881.

Type of Review: Extension.

Title: Credit for Small Employer Pension Plan Startup Costs.

Description: Qualified small employers use Form 8881 to request a credit for start up costs related to eligible retirement plans. Form 8881 implements section 45E, which provides a credit based on costs incurred by an employer in establishing or administering an eligible employer plan or for the retirement-related education of employees with respect to the plan. The credit is 50 percent of the qualified costs for the tax year, up to a maximum credit of $500 for the first tax year and each of the two subsequent tax years.

Respondents: Business or other for-profit.

Estimated Number of Respondents/Recordkeepers: 100,000.

Estimated Burden Hours per Respondent/Recordkeeper:

Recordkeeping—7 hr., 39 min.

Learning about the law or the form—53 min.

Preparing and sending the form to the IRS—1 hr., 3 min.

Frequency of Response: Annually.

Estimated Total Reporting/Recordkeeping Burden: 960,000 hours.

OMB Number: 1545-1815.

Form Number: IRS Form 5498-ESA.

Type of Review: Extension.

Title: Coverdell ESA Contribution Information.

Description: Form 5498-ESA is used by trustees and issuers of Coverdell Education Savings accounts to report contributions made to these accounts to beneficiaries.

Respondents: Business or other for-profit.

Estimated Number of Respondents/Recordkeepers: 10,000.

Estimated Burden Hours per Respondent/Recordkeeper: 7 minutes.

Frequency of Response: Annually.

Estimated Total Reporting/Recordkeeping Burden: 18,000 hours.

OMB Number: 1545-1822.

Revenue Procedure Number: Revenue Procedure 2003-11.

Type of Review: Extension.

Title: Offshore Voluntary Compliance Initiative.

Description: Revenue Procedure 2003-11 describes the Offshore Voluntary Compliance Initiative, which is directed at taxpayers that have under-reported their tax liability through financial arrangements outside the United States that rely on the use of credit, debit, or charge cards (offshore credit cards) or foreign banks, financial institutions, corporations, partnerships, trusts, or other entities (offshore financial arrangements). Taxpayers that participate in the initiative and provide the information and material that their participation requires can avoid certain penalties.

Respondents: Individuals or households, business or other for-profit, not-for-profit institutions.

Estimated Number of Respondents: 2,000.

Estimated Burden Hours per Respondent: 50 hours.

Frequency of Response: On occasion.

Estimated Total Reporting Burden: 100,000 hours.

Clearance Officer: Glenn Kirkland, (202) 622-3428, Internal Revenue Service, Room 6411-03, 1111 Constitution Avenue, NW., Washington, DC 20224.

OMB Reviewer: Joseph F. Lackey, Jr., (202) 395-7316, Office of Management and Budget, Room 10235, New Executive Office Building, Washington, DC 20503.

Mary A. Able,
Departmental Reports, Management Officer.

[FR Doc. 03-8863 Filed 4-10-03; 8:45 am]

BILLING CODE 4830-01-P